DEPARTMENT OF TRANSPORTATION

Federal Aviation Administration

14 CFR Part 39

[Docket No. 2001-NM-205-AD]

RIN 2120-AA64

Airworthiness Directives; Airbus Model A300 B2 and A300 B4 Series Airplanes; Model A300 F4-605R Airplanes; Model A300 B4-600 and A300 B4-600R Series Airplanes; and Model A310 Series Airplanes

AGENCY: Federal Aviation Administration, DOT.

ACTION: Supplemental notice of proposed rulemaking; reopening of comment period.

SUMMARY: This document revises an earlier proposed airworthiness directive (AD), applicable to certain Airbus Model A300 B2 and A300 B4 series airplanes; certain Model A300 F4-605R airplanes and Model A300 B4-600 and A300 B4-600R series airplanes; and certain Model A310 series airplanes. That earlier proposed AD would have required repetitive inspections to detect damage of the fillet seals and feeder cables, and of the wiring looms in the wing/pylon interface area; and corrective action, if necessary. That earlier proposed AD also would have provided for optional terminating action for the repetitive inspections. This new action would retain those proposed actions but require that actions be done in accordance with newly revised service bulletins. This new action also would revise the applicability. The actions specified by this new proposed AD are intended to prevent wire chafing and short circuits in the wing leading edge/pylon interface area, which could result in loss of the power supply generator and/or system functions. This action is intended to address the identified unsafe condition.

DATES: Comments must be received by January 28, 2002.

ADDRESSES: Submit comments in triplicate to the Federal Aviation Administration (FAA), Transport Airplane Directorate, ANM-114, Attention: Rules Docket No. 2001-NM-205-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-205-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket 2001-NM-205-AD.” The postcard will be date stamped and returned to the commenter.

Availability of NPRMs

Any person may obtain a copy of this NPRM by submitting a request to the FAA, Transport Airplane Directorate, ANM-114, Attention: Rules Docket 2001-NM-205-AD, 1601 Lind Avenue, SW., Renton, Washington 98055-056.

Discussion

A proposal to amend part 39 of the Federal Aviation Regulations (14 CFR part 39) to add an airworthiness directive (AD), applicable to certain Airbus Model A300 B2 and A300 B4 series airplanes; certain Model A300 F4-605R airplanes and Model A300 B4-600 and A300 B4-600R series airplanes; and certain Model A310 series airplanes; was published as a notice of proposed rulemaking (NPRM) in the Federal Register on October 4, 2001 (66 FR 50588). That original NPRM would have required repetitive inspections to detect damage of the fillet seals and feeder cables, and of the wiring looms in the wing/pylon interface area; and corrective action, if necessary. The original proposed AD also would have provided for optional terminating action for the repetitive inspections. The original NPRM was prompted by reports of wire chafing and short circuits in the wing leading edge/pylon interface area. That condition, if not corrected, could result in loss of the power supply generator and/or system functions.

Since Issuance of the Original NPRM

Since the original NPRM was issued, Airbus has issued new service information that would affect the requirements proposed by that NPRM.

Explanation of Relevant Service Information

Airbus Service Bulletin A300-24-0053, Revision 05, was cited in the original NPRM as the appropriate source of service information for the inspection of the fillet seals and feeder cables for Model A300 series airplanes. Airbus has since issued Revision 06 of the service bulletin, dated September 10, 2001, which describes the basic pylon and common pylon configurations and distinguishes the procedures for repairing damaged fillet seals for the two configurations.

The original NPRM cited Airbus Service Bulletin A300-54-0095, Revision 01, as the appropriate source of service information for the optional replacement of the fillet panel assemblies on Model A300 series airplanes. Airbus has since issued Revision 02 of the service bulletin, dated September 7, 2001, to include a new kit for airplanes in the basic pylon configuration. Either Revision 01 or Revision 02 would eliminate the need for the repetitive inspections for airplanes in the common pylon configuration; only Revision 02 would eliminate the need for the repetitive inspections for airplanes in the basic pylon configuration.

The original NPRM cited Airbus Service Bulletin A300-24-6039, Revision 06, as the appropriate source of service information for the inspection and repair of the wiring looms for Model A300-600 series airplanes. Airbus has since issued Revision 07 of the service bulletin, dated August 9, 2001, which includes minor changes only.

The Direction Générale de l'Aviation Civile (DGAC), which is the airworthiness authority for France, approved these service bulletin revisions.

Accomplishment of the actions specified in Airbus Service Bulletins A300-24-0053, Revision 06, A300-24-6001, Revision 05, A310-24-2021, Revision 06, A300-24-0083, Revision 03, A300-24-6039, Revision 07, and A310-24-2052, Revision 04, is intended to adequately address the identified unsafe condition.

Comments

Interested persons have been afforded an opportunity to participate in the making of this amendment. Due consideration has been given to the comments received.

Request to Extend the Compliance Time for the Inspection

One commenter requests that the compliance time specified by the original NPRM be extended from 500 flight hours to 600 flight hours. According to the commenter, a “600 FH “grace period” is compatible with the highest existing interval for an A-check.”

The FAA concurs with the request. The FAA finds it appropriate to extend the compliance time to 600 flight hours and has determined that such an extension would not adversely affect the safety of the fleet. Paragraphs (a) and (b) of this supplemental NPRM have been revised accordingly.

Requests to Cite Latest Service Bulletin Revisions

The commenters request that the original NPRM be revised to refer to the latest service bulletin revisions (described previously). Airbus Service Bulletins A300-24-0053, Revision 06, and A300-54-0095, Revision 02, have included procedures for the inspection and repair of airplanes in the basic pylon configuration. One commenter states that the earlier revisions of these service bulletins properly cover the common pylon configuration but are not suitable for the basic pylon configuration. The commenters also request that Revision 07 of Service Bulletin A300-24-6039 be cited as the primary service information for the wiring loom inspection for Model A300-600 series airplanes.

The FAA partially concurs with the requests. Although accomplishment of the actions specified by earlier service bulletin revisions may be acceptable for certain airplanes, the FAA has determined that, for simplicity, this supplemental NPRM will cite only the latest service bulletin revisions for the proposed actions specified in paragraphs (a) and (b) of this supplemental NPRM. As a result, paragraphs (a) and (b) of this supplemental NPRM have been revised, and Note 3 and Note 5 of the original NPRM have been removed (and the remaining Notes have been renumbered). However, paragraph (c) of this supplemental NPRM has been revised to specify accomplishment of the terminating action in accordance with either Revision 01 or Revision 02 of Airbus Service Bulletin A300-54-0095 for airplanes in the common pylon configuration, but would require Revision 02 for airplanes in the basic pylon configuration. Operators should note that the provisions of paragraph (d) of this supplemental NPRM would enable the FAA to approve requests for alternative methods of compliance (e.g., per an alternative service bulletin revision) if data are submitted to substantiate that such alternative methods would provide an acceptable level of safety.

Request to Disallow Credit for Repair Per Certain Service Bulletin Versions

One commenter requests that the original NPRM be revised to specifically exclude credit for repairs done in accordance with revisions prior to Revision 05 of Airbus Service Bulletin A300-24-6011 and Revision 06 of Airbus Service Bulletin A310-24-2021. Note 3 of the original NPRM would have provided this credit. Note 3 of the original NPRM refers to paragraph (a) of the original NPRM. The commenter states that earlier revisions of these service bulletins are acceptable for accomplishment of detailed visual inspections to detect damage (including erosion and tearing) and deterioration of the fillet seals and feeder cables, but not the repairs of damage on applicable affected airplanes.

The FAA partially concurs. The FAA agrees that the repair procedures described in those earlier revised service bulletins are not acceptable for the basic pylon configuration, and notes that the repair procedures have been deleted from Airbus Service Bulletins A300-24-6011, Revision 05, and A310-24-2021, Revision 06. However, as stated earlier, Note 3 and Note 5 of the original NPRM, which provided credit for prior accomplishment of the earlier service bulletin revisions, have been removed from this supplemental NPRM, but operators may request approval of an alternative method of compliance in accordance with paragraph (d) of this supplemental NPRM. No additional change is necessary in this regard.

Request to Change Inspection Type

One commenter, the manufacturer, requests that the original NPRM be revised to change the inspection type from a general visual inspection to a detailed visual inspection. According to the manufacturer, “even if not always clearly stated in the Airbus SBs, visual inspection means detailed visual inspection and not general visual inspection.”

The FAA finds that detailed visual inspections are appropriate to address the identified unsafe condition, and concurs with the commenter's request. Paragraphs (a) and (b) of this supplemental NPRM have been revised to specify detailed, rather than general, visual inspections. In addition, Note 2 of this supplemental NPRM has been revised to define a detailed visual inspection.

Request to Revise Applicability of Proposed AD

One commenter requests that Table 1 of the original NPRM be revised to reflect the correct applicability. The original NPRM indicates that airplanes would be excluded from the applicability if either of two specified modifications had been accomplished. The commenter states that the applicability should exclude only airplanes on which both of the specified modifications have been accomplished.

The FAA concurs. The original NPRM inadvertently substituted the conjunction “or” for “and” between the modification numbers listed in Table 1. The applicability of this supplemental NPRM has been revised to exclude airplanes only if both of the specified modifications have been accomplished.

Conclusion

Since these changes expand the scope of the original NPRM, the FAA has determined that it is necessary to reopen the comment period to provide additional opportunity for public comment.

Cost Impact

The FAA estimates that 107 airplanes of U.S. registry would be affected by this supplemental NPRM.

It would take approximately 6 work hours per airplane to inspect the seals/cables at an average labor rate of $60 per work hour. Based on these figures, the cost impact of this proposed inspection on U.S. operators is estimated to be $38,520, or $360 per airplane, per inspection cycle.

It would take approximately 5 work hours per airplane to inspect the wiring looms and apply the protection, at an average labor rate of $60 per work hour. Based on these figures, the cost impact of this proposed inspection on U.S. operators is estimated to be $32,100, or $300 per airplane, per inspection cycle.

The cost impact figures discussed above are based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Should an operator elect to perform the optional terminating action, it would take approximately 5 work hours per airplane to replace the fillet panel assemblies, at an average labor rate of $60 per work hour. Required parts would cost approximately $350 to $470 per airplane. Based on these figures, the cost impact of the optional terminating action is estimated to be $650 to $770 per airplane.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus Industrie: Docket 2001-NM-205-AD.

Applicability: The following airplanes, certificated in any category:

Table 1.—Applicability
Model | Excluding those modified per Airbus modification
A300 B2-1C, A300 B2-203, A300 B2K-3C, and A300 B4 series | 11349 and airplanes 12309.
A300 F4-605R airplanes, A300 B4-600 series airplanes, and A300 B4-600R series airplanes | 11348 and 12303.
A310 series airplanes | 11350 and 12310.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent wire chafing and short circuits in the wing leading edge/pylon interface area, which could result in loss of the power supply generator and/or system functions, accomplish the following:

Inspections

(a) Within 600 flight hours after the effective date of this AD, perform a detailed visual inspection to detect damage (including erosion and tearing) and deterioration of the fillet seals and feeder cables, in accordance with Airbus Service Bulletin A300-24-0053, Revision 06, dated September 10, 2001 (for Model A300 series airplanes); A300-24-6011, Revision 05, dated May 18, 2001 (for Model A300 F4-605R airplanes and Model A300 B4-600 and A300 B4-600R series airplanes); or A310-24-2021, Revision 06, dated May 18, 2001 (for Model A310 series airplanes). Repeat the inspection thereafter at intervals not to exceed 1,000 flight hours, until the actions specified by paragraph (c) are accomplished.

(1) If no damage is detected: Prior to further flight following the initial inspection only, apply protection to each feeder cable in accordance with the applicable service bulletin.

(2) If any damage is detected: Prior to further flight, repair in accordance with the applicable service bulletin.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Note 3: Airbus Service Bulletins A300-24-0053, A300-24-6011, and A310-24-2021 refer to Airbus Service Bulletins A300-24-0054, A300-24-6013, and A310-24-2024, respectively, as additional sources of service information for repair.

(b) Within 600 flight hours after the effective date of this AD: Perform a detailed visual inspection of the wiring looms in the area of the wing leading edge/pylon interface to detect damage (including chafing, burning, and short circuits), in accordance with Airbus Service Bulletin A300-24-0083, Revision 03, dated January 3, 2001 (for Model A300 series airplanes); A300-24-6039, Revision 07, dated August 9, 2001 (for Model A300 F4-605R airplanes and Model A300 B4-600 and A300 B4-600R series airplanes); or A310-24-2052, Revision 04, dated April 6, 2001 (for Model A310 series airplanes); as applicable. Repeat the inspection thereafter at least every 1,000 flight hours, until the actions specified by paragraph (c) of this AD have been accomplished.

(1) If no damage is detected: Prior to further flight following the initial inspection only, apply protection in accordance with the applicable service bulletin.

(2) If any damage is detected: Prior to further flight, repair in accordance with the applicable service bulletin.

Optional Terminating Action

(c) Replacement of the fillet panel assemblies with new, improved assemblies, as specified by paragraphs (c)(1), (c)(2), or (c)(3) of this AD, as applicable, terminates the requirements of this AD.

(1) For Model A300 series airplanes: Replacement of the fillet panel assemblies, if accomplished, must be done as specified by paragraph (c)(1)(i) or (c)(1)(ii) of this AD.

(i) For airplanes in the common pylon configuration: In accordance with Airbus Service Bulletin A300-54-0095, Revision 01, dated January 3, 2001, or Revision 02, dated September 7, 2001.

(ii) For airplanes in the basic pylon configuration: In accordance with Airbus Service Bulletin A300-54-0095, Revision 02, dated September 7, 2001.

(2) For Model A300 F4-605R airplanes and Model A300 B4-600 and A300 B4-600R series airplanes: Replacement of the fillet panel assemblies, if accomplished, must be done in accordance with Airbus Service Bulletin A300-54-6032, Revision 03, dated January 3, 2001.

(3) For Model A310 series airplanes: Replacement of the fillet panel assemblies, if accomplished, must be done in accordance with Airbus Service Bulletin A310-54-2033, Revision 01, dated January 3, 2001.

Alternative Methods of Compliance

(d) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(e) Special flight permits may be issued in accordance with sections 21.197 and 21.199 of the Federal Aviation Regulations (14 CFR 21.197 and 21.199) to operate the airplane to a location where the requirements of this AD can be accomplished.

Issued in Renton, Washington, on December 26, 2001.
Ali Bahrami,
Acting Manager, Transport Airplane Directorate, Aircraft Certification Service.

[FR Doc. 01-32197 Filed 12-31-01; 8:45 am]

BILLING CODE 4910-13-U